DEPARTMENT OF TRANSPORTATION

Federal Railroad Administration

[Docket Number FRA-2022-0082]

Petition for Waiver of Compliance

Under part 211 of title 49 Code of Federal Regulations (CFR), this document provides the public notice that on August 15, 2022, BNSF Railway Company (BNSF) petitioned the Federal Railroad Administration (FRA) for a waiver of compliance from certain provisions of the Federal railroad safety regulations contained at 49 CFR part 232 (Brake System Safety Standards for Freight and Other Non-Passenger Trains and Equipment). FRA assigned the petition Docket Number FRA-2022-0082.

Specifically, BNSF seeks relief with respect to the application of 49 CFR 232.205(c)(1)(ii)(B), Class I brake test-initial terminal inspection, and 232.207(b)(1), Class IA brake tests-1,000-mile inspection, for trains operating in distributive power mode. BNSF requests to extend the maximum allowable brake pipe air flow from the present regulatory limit of 90 cubic feet per minute (CFM) to 120 CFM for distributed power-equipped trains under specified operating conditions.

In support of its petition, BNSF submitted a report from the air flow tests conducted by BNSF in Staples, Minnesota, in June 2022. BNSF also states that “increasing the allowable flow to 120 CFM will even further reduce” walking exposures that employees encounter and that the use of distributive power “enhances safer train handling in cold weather operations.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at http://www.regulations.gov. Follow the online instructions for submitting comments.

Communications received by January 16, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-24961 Filed 11-15-22; 8:45 am]

BILLING CODE 4910-06-P